FEDERAL RESERVE SYSTEM

12 CFR Part 261a

[Docket No. R-1704]

[RIN No. 7100-AF78]

Privacy Act of 1974; Privacy Act Regulation

AGENCY: Board of Governors of the Federal Reserve System.

ACTION: Proposed rule and request for comment.

SUMMARY: Pursuant to the provisions of the Privacy Act of 1974, notice is given that the Board of Governors of the Federal Reserve System (Board) proposes to amend its regulation implementing the Privacy Act of 1974 (Privacy Act Rule). The Board is proposing to add a new system of records entitled BGFRS-43, “FRB—Security Sharing Platform,” to those identified as an “exempt” system of records. Notice of this new system of records is published elsewhere in this issue of the Federal Register.

DATES: Comments must be received on or before May 1, 2020.

ADDRESSES: You may submit comments, identified by Docket Number R-1704 and RIN 7100-AF74 by any of the following methods:

• Agency website: https://www.federalreserve.gov. Follow the instructions for submitting comments at https://www.federalreserve.gov/apps/foia/proposedregs.aspx.

• Email: regs.comments@federalreserve.gov. Include docket number in the subject line of the message.

• Fax: (202) 452-3819 or (202) 452-3102.

• Mail: Ann E. Misback, Secretary, Board of Governors of the Federal Reserve System, 20th Street and Constitution Avenue NW, Washington, DC 20551.

All public comments will be made available on the Board's website at https://www.federalreserve.gov/apps/foia/proposedregs.aspx as submitted, unless modified for technical reasons or to remove sensitive personally identifiable information. Public comments may also be viewed electronically or in paper in Room 146, 1709 New York Avenue NW, Washington, DC 20006, between 9:00 a.m. and 5:00 p.m. on weekdays.

FOR FURTHER INFORMATION CONTACT: David B. Husband, Counsel, (202) 530-6270, or david.b.husband@frb.gov; Legal Division, Board of Governors of the Federal Reserve System, 20th Street and Constitution Avenue NW, Washington, DC 20551.

SUPPLEMENTARY INFORMATION: The Board last revised its Rules Regarding Access to Personal Information under the Privacy Act (the Board's Privacy Act Rule), 12 CFR part 261a, in 2010. See75 FR 63703 (October 18, 2010). The Privacy Act Rule sets forth the procedures for individuals requesting to access or amend information about themselves contained in a system of records maintained by the Board. It also sets out the procedures by which an individual may appeal an adverse determination of a request for access or amendment and identifies the systems of records that are exempt from certain provisions of the Privacy Act.

The Board is establishing a new system of records, BGFRS-43, “FRB—Security Sharing Platform” published elsewhere in this issue of the Federal Register. The new system of records maintains records relating to the Security Sharing Platform that will allow the Board and the twelve Federal Reserve Banks (collectively, “the Federal Reserve System”) to share information regarding individuals who are involved in incidents or events that may affect the safety and security of the premises, grounds, property, personnel, and operations of the Federal Reserve System.

The Board proposes to amend its existing list of exempt system of records to add BGFRS-43, “FRB—Security Sharing Platform,” as an exempt system of records pursuant to 5 U.S.C. 552a(k)(2), which exempts the listed systems from certain provisions of the Privacy Act to the extent that the system contains investigatory material compiled for law enforcement purposes. The Security Sharing Platform system of records contains investigatory material compiled for law enforcement purposes as it will collect, maintain, and permit the sharing by Federal Reserve System law enforcement personnel of information necessary to protect the security and safety of the System's premises, grounds, property, personnel, and operations. Law enforcement personnel may use the collected information to conduct investigations, as appropriate, of suspected violations of civil or criminal laws. Therefore, to the extent BGFRS-43 contains investigatory materials compiled for law enforcement purposes, the system is appropriately designated as exempt pursuant to 5 U.S.C. 552a(k)(2).

Accordingly, the Board is proposing to amend 12 CFR 261a.12(b) to redesignate paragraph (b)(11) referencing BGFRS/OIG-1 Investigative Records as paragraph (b)(12) in order to maintain the Board's practice of listing OIG-specific SORNs after the general SORNs. The Board proposes to add BGFRS-43, “FRB—Security Sharing Platform” as new paragraph (b)(11).

Regulatory Flexibility Analysis

The Privacy Act Regulation sets forth the procedures by which individuals may request access and amendment to records maintained in systems of records at the Board. The Board believes that this rule will not have a significant economic impact on a substantial number of small entities, because it does not apply to business entities.

List of Subjects to Part 261(a)

Privacy.

Authority and Issuance

For the reasons stated in the Supplementary Information, the Board proposes to amend 12 CFR part 261a as follows:

PART 12 CFR 261a—RULES REGARDING ACCESS TO PERSONAL INFORMATION UNDER THE PRIVACY ACT 1974

1. The authority citation for part 261a continues to read as follows:

Authority: 5 U.S.C. 552a.

2. Amend § 261a.12(b) by redesignating paragraph (b)(11) as (b)(12) and adding new paragraph (b)(11) to read as follows:

§ 261a.12 Exempt Records.

* * * * *

(b) * * *

(11) BGFRS-43 Security Sharing Platform

* * * * *

Board of Governors of Federal Reserve System.
Michele Taylor Fennell,
Assistant Secretary of the Board.

[FR Doc. 2020-06506 Filed 3-31-20; 8:45 am]

BILLING CODE P